JUDICIAL CONFERENCE OF THE UNITED STATES

Advisory Committees on Appellate, Bankruptcy, Civil, and Evidence Rules; Hearings of the Judicial Conference

AGENCY: Judicial Conference of the United States.

ACTION: Advisory Committees on Appellate, Bankruptcy, Civil, and Evidence Rules; notice of proposed amendments and open hearings.

DATES: All written comments and suggestions with respect to the proposed amendments may be submitted on or after the opening of the period for public comment on August 15, 2022, but no later than February 16, 2023.

ADDRESSES: Written comments must be submitted electronically, following the instructions provided on the website. All comments submitted will be posted on the website and available to the public.

Public hearings either virtually or in person are scheduled on the proposed amendments as follows:

• Appellate Rules on October 13, 2022 and January 5, 2023;

• Bankruptcy Rules on January 6, 2023 and January 13, 2023;

• Civil Rules on October 12, 2022 and January 5, 2023; and

• Evidence Rules on January 20, 2023 and January 27, 2023.

Those wishing to testify must contact the Secretary of the Committee on Rules of Practice and Procedure by email at: RulesCommittee_Secretary@ao.uscourts.gov, at least 30 days before the hearing.

FOR FURTHER INFORMATION CONTACT: H. Thomas Byron III, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: The Advisory Committees on Appellate, Bankruptcy, Civil, and Evidence Rules have proposed amendments to the following rules:

• Appellate Rules 32, 35, 40, and Appendix on Length Limits

• Bankruptcy Restyled Rules Parts VII to IX; Rules 1007, 4004, 5009, 7001, 9006, new Rule 8023.1, and Official Form 410A

• Civil Rule 12

• Evidence Rules 611, 613, 801, 804, and 1006

The text of the proposals will be posted by August 15, 2022, on the Judiciary's website at: https://www.uscourts.gov/rules-policies/proposed-amendments-published-public-comment.

(Authority: 28 U.S.C. 2073.)

Dated: August 1, 2022.
Shelly L. Cox,
Management Analyst, Rules Committee Staff.

[FR Doc. 2022-16775 Filed 8-4-22; 8:45 am]

BILLING CODE 2210-55-P